DEPARTMENT OF DEFENSE

Defense Acquisition Regulations System

48 CFR Parts 201 and 206

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: September 9, 2013.

FOR FURTHER INFORMATION CONTACT: Mr. Manuel Quinones, Defense Acquisition Regulations System, OUSD (AT&L)DPAP (DARS), Room 3B855, 3060 Defense Pentagon, Washington, DC 20301-3060. Telephone 571-372-6088; facsimile 571-372-6094.

SUPPLEMENTARY INFORMATION: This final rule amends the DFARS as follows:

1. Corrects at 201.170(b) the email address for the submission of the rolling annual forecast of acquisitions that will be subject to DoD peer review.

2. Revises the section heading at 206.302-3 for consistency with the FAR.

List of Subjects in 48 CFR Parts 201 and 206

Government procurement.

Manuel Quinones,
Editor, Defense Acquisition Regulations System.

Therefore, 48 CFR parts 201 and 206 are amended as follows:

1. The authority citation for 48 CFR parts 201 and 206 continues to read as follows:

Authority: 41 U.S.C. 1303 and 48 CFR chapter 1.

PART 201—CONTRACTOR QUALIFICATIONS

201.170 [Amended]

2. Section 201.170 paragraph (a)(2) is amended by removing “peerreviews@osd.mil” and adding “osd.pentagon.ousd-atl.mbx.peer-reviews@mail” in its place.

PART 206—COMPETITION REQUIREMENTS

3. Revise the section heading of 203.302-3 to read as follows:

206.302-3 Industrial mobilization, engineering, developmental, or research capability, or expert services.

[FR Doc. 2013-21835 Filed 9-6-13; 8:45 am]

BILLING CODE 5001-06-P